DEPARTMENT OF LABOR

Employment and Training Administration

[NAFTA—7603]

Midwest Electric Products, Mankato, MN; Notice of Termination of Investigation

Pursuant to Title V of the North American Free Trade Agreement Implementation Act (Pub.L. 103-182) concerning transitional adjustment assistance, hereinafter called (NAFTA-TAA), and in accordance with Section 250(a), Subchapter D, Chapter 2, Title II, of the Trade Act of 1974, as amended (19 U.S.C. 2273), an investigation was initiated on August 19, 2002, in response to a petition filed by the company on behalf of workers at Midwest Electric Products, Inc., Mankato, Minnesota.

The petitioner requested that the petition for NAFTA-TAA be withdrawn. Consequently, further investigation in this case would serve no purpose, and the investigation has been terminated.

Signed at Washington, DC, this 16th day of January, 2003.
Elliott S. Kushner,
Certifying Officer, Division of Trade Adjustment Assistance.

[FR Doc. 03-2548 Filed 2-3-03; 8:45 am]

BILLING CODE 4510-30-P